ENVIRONMENTAL PROTECTION AGENCY

[FRL-7017-7]

Agency Compliance Assistance Activity Plan Inventory: Comment Request; Correction

AGENCY: Environmental Protection Agency (EPA).

ACTION: Notice; Correction—Extend Comment Period.

SUMMARY: The Environmental Protection Agency (EPA or Agency) prematurely published a document in the Federal Register on June 27, 2001, (66 FR 34190), seeking comments on its draft Annual Compliance Assistance Activity Plan Inventory (Plan Inventory) for fiscal year 2002. The draft Plan Inventory catalogues compliance assistance activities proposed throughout the Agency for fiscal year 2002, and provides a single source for stakeholders to access the information. The Agency is seeking stakeholder input on the content, type and scope of projects contained in the draft Plan Inventory.

DATES: Comments must be submitted on or before August 27, 2001.

ADDRESSES: Interested persons may review the draft Annual Compliance Assistance Activity Plan Inventory from the National Compliance Assistance Clearinghouse, at www.epa.gov/clearinghouse.

FOR FURTHER INFORMATION CONTACT: Comments can be sent to Joanne Bergman, (202) 564-7064; e-mail at berman.joanne@epa.gov; or by mail at US Environmental Protection Agency, Office of Compliance, Mail Code 2224A, Washington, DC 20460.

Correction

The Federal Register notice of June 27, 2001, (66 FR 34190) listed an incorrect date for submitting comments on the Compliance Assistance Activity Plan Inventory. It should read:

DATES: Comments must be submitted on or before August 23, 2001.

SUPPLEMENTARY INFORMATION: The draft Plan Inventory reflects EPA's commitment to help entities comply with regulatory requirements and improve environmental performance through compliance assistance. Compliance assistance includes activities, tools or technical assistance that provides clear and consistent information for (1) helping the regulated community understand and meet its obligations under environmental regulations or (2) compliance assistance providers to aid the regulated community in complying with environmental regulations.

The comprehensive approach of the Plan Inventory allows interested stakeholders to understand the Agency's current compliance assistance priorities and activities and to suggest where tools or additional emphasis are still needed. The consolidated information will also assist compliance assistance providers in determining how to focus their resources without duplicating EPA's efforts. Additionally, the regulated community will be able to anticipate what compliance assistance will be available to them in the near future.

The draft fiscal year 2002 Plan Inventory continues the coordinated, intra-agency planning that marked the first Compliance Assistance Activity Plan, fiscal year 2001, published April 2001. Stakeholder comments played a significant role in the development of the fiscal year 2001 Plan. To better assist the Agency, EPA would particularly welcome comments addressing the following issues.

1. What are the most important environmental or regulatory problems where the EPA should focus its compliance assistance efforts?

2. What type of compliance assistance would be most useful and effective at addressing the environmental or regulatory problems identified above? What entities should EPA direct that assistance toward?

3. What activities suggest opportunities for collaboration between EPA and other compliance assistance providers? How might that collaboration work?

4. Are any of EPA's compliance assistance activities unnecessary or duplicative of other efforts? Which ones? Why?

The Agency looks to stakeholder comments to influence the directions in which we focus our compliance assistance resources. The Agency is committed to using stakeholder comments as we continuously improve the way we do business.

Dated: July 10, 2001.
Michael M. Stahl,
Director, Office of Compliance.

[FR Doc. 01-18878 Filed 7-26-01; 8:45 am]

BILLING CODE 6560-50-P